DEPARTMENT OF COMMERCE

National Oceanic and Atmospheric Administration

RIN 0648-XC491

Fisheries of the Gulf of Mexico; Southeast Data, Assessment, and Review (SEDAR); Public Meeting; Correction

AGENCY: National Marine Fisheries Service (NMFS), National Oceanic and Atmospheric Administration (NOAA), Commerce.

ACTION: Correction to notice of SEDAR Steering Committee meeting.

SUMMARY: This document corrects an error made to the meeting description in the DATES section for the SEDAR Steering Committee. The original document published in the Federal Register on February 8, 2013, and all other information remains unchanged and will not be repeated in this document. See SUPPLEMENTARY INFORMATION.

ADDRESSES: SEDAR address: 4055 Faber Place Drive, Suite 201, N. Charleston, SC 29405.

FOR FURTHER INFORMATION CONTACT: John Carmichael, SEDAR Program Manager; phone (843) 571-4366; email: john.carmichael@safmc.net or Andrea Grabman, SEDAR Administrative Assistant; phone (843) 571-4366; email: andrea.grabman@safmc.net.

SUPPLEMENTARY INFORMATION:

Correction

In the Federal Register of February 8, 2013, in FR Doc. 2013-02870, on page 9372, in the first column, correct the DATES caption to read as follows:

DATES: The SEDAR Steering Committee webinar will be held on February 25, 2013, from 11 a.m. to 1 p.m. EST.

Authority: 16 U.S.C. 1801 et seq.

Dated: February 8, 2013.
Tracey L. Thompson,
Acting Deputy Director, Office of Sustainable Fisheries, National Marine Fisheries Service.

[FR Doc. 2013-03368 Filed 2-13-13; 8:45 am]

BILLING CODE 3510-22-P